DEPARTMENT OF TRANSPORTATION

Federal Aviation Administration

14 CFR Part 25

[Docket No. FAA-2019-0330; Special Conditions No. 25-761-SC]

Special Conditions: The Boeing Company Model 777-9 Series; Overhead Flight Attendant Rest Compartment

Correction

In Rule document 2020-03475, appearing on pages 11836-11841, in the issue of Friday, February 28, 2020, make the following corrections:

On page 11838, in the third column, on the thirty-second line from the top of the page, the paragraph entry titled “Exit Signs and Placards.” should read “4. Exit Signs and Placards.”.

[FR Doc. C1-2020-03475 Filed 3-12-20; 8:45 am]

BILLING CODE 1301-00-D